DEPARTMENT OF COMMERCE

International Trade Administration

[A-602-804]

Notice of Final Determination of Sales at Less Than Fair Value: Certain Cold-Rolled Carbon Steel Flat Products From Australia

AGENCY: Import Administration, International Trade Administration, Department of Commerce.

EFFECTIVE DATE: July 19, 2002.

FOR FURTHER INFORMATION CONTACT: Paige Rivas at (202) 482-0651, or Mark Manning at (202) 482-5253, Office of AD/CVD Enforcement IV, Group II, Import Administration, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (Department) regulations are to the regulations at 19 CFR part 351 (April 2001).

Final Determination

We determine that certain cold-rolled carbon steel flat products (cold-rolled steel) from Australia are being, or are likely to be, sold in the United States at less than fair value (LFTV), as provided in section 735 of the Act. The estimated margins are shown in the “Suspension of Liquidation” section of this notice.

Background

On May 9, 2002, the Department published its preliminary determination in the above-captioned antidumping duty investigation. See Notice of Preliminary Determination of Sales at Less Than Fair Value: Certain Cold-Rolled Carbon Steel Flat Products From Australia, 67 FR 31192 (May 9, 2002) (Preliminary Determination). See also Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey, and Venezuela, 66 FR 54198 (October 26, 2001) (Initiation Notice).

Since the preliminary determination, the following events have occurred. We gave interested parties an opportunity to comment on the preliminary determination. With respect to scope, in the preliminary LTFV determinations in these cases, the Department preliminarily excluded certain porcelain enameling steel from the scope of these investigations. See Scope Appendix to the Notice of Preliminary Determination of Sales at Less Than Fair Value: Certain Cold-Rolled Carbon Steel Flat Products from Argentina, 67 FR 31181 (May 9, 2002) (Scope Appendix—Argentina Preliminary LTFV Determination). On June 13, 2002, we issued a preliminary decision on the remaining 75 scope exclusion requests filed in a number of the on-going cold-rolled steel investigations (see the June 13, 2002, memorandum regarding “Preliminary Scope Rulings in the Antidumping Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea” (Preliminary Scope Rulings), which is on file in the Central Records Unit (CRU), room B-099 of the main Department building. We gave parties until June 20, 2002, to comment on the preliminary scope rulings, and until June 27, 2002, to submit rebuttal comments. We received comments and/or rebuttal comments from petitioners and respondents from various countries subject to these investigations of cold-rolled steel. In addition, on June 13, 2002, North American Metals Company (an interested party in the Japanese proceeding) filed a request that the Department issue a “correction” for an already excluded product. On July 8, 2002, the petitioners objected to this request.

At the request of multiple respondents, the Department held a public hearing with respect to the Preliminary Scope Rulings on July 1, 2002.

We gave interested parties an opportunity to comment on the preliminary determination. No case or rebuttal briefs were submitted.

Critical Circumstances

In letters filed on December 7, 2001, and January 14, 2002, the petitioners alleged that there is a reasonable basis to believe or suspect that critical circumstances exist with respect to imports of cold-rolled steel from Australia and other countries. On April 18, 2002, the Department published in the Federal Register its preliminary determination that critical circumstances exist for imports of cold-rolled steel from Australia and other countries. See Notice of Preliminary Determinations of Critical Circumstances: Certain Cold-Rolled Carbon Steel Flat Products From Australia, the People's Republic of China, India, the Republic of Korea, the Netherlands, and the Russian Federation, 67 FR 19157 (April 18, 2002) and Memorandum from Bernard Carreau to Faryar Shirzad, “Antidumping Duty Investigations on Certain Cold-Rolled Carbon Steel Flat Products from Australia, India, the Netherlands, and the Republic of Korea—Preliminary Affirmative Determinations of Critical Circumstances,” dated April 10, 2002.

We received no comments from the petitioners or the respondent regarding our preliminary finding that critical circumstances exist for imports of cold-rolled steel from Australia. Therefore, we have not changed our determination and continue to find that critical circumstances exist for imports of cold-rolled steel from Australia. Regarding the other countries for which we preliminarily found affirmative critical circumstances, we will make final determinations concerning critical circumstances for these countries when we make our final dumping determinations in those investigations.

Scope of Investigation

For purposes of this investigation, the products covered are certain cold-rolled (cold-reduced) flat-rolled carbon-quality steel products. A full description of the scope of this investigation is contained in the “Scope Appendix” attached to this final determination notice. For a complete discussion of the comments received on the Preliminary Scope Rulings, see the memorandum regarding “Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea,” dated July 10, 2002, which is on file in the CRU.

Analysis of Comments Received

As noted above, there were no case or rebuttal briefs submitted in this investigation, nor was there a hearing.

Use of Facts Available

In the Preliminary Determination, the Department applied total adverse facts available to the mandatory respondent, Broken Hill Propriety Limited Steel (BHP JLA), and BHP Steel Americas (BHPSA) (collectively known as BHP), because BHP chose not to participate in the investigation. As a result, the Department assigned BHP the rate of 24.06 percent, the rate derived from the petition. See Initiation Notice. Also, the Department applied the petition margin of 24.06 percent as the “all others” rate. The interested parties did not object to the use of adverse facts available, or to the Department's choice of facts available. For this final determination, we are continuing to apply total adverse facts available to BHP.

Suspension of Liquidation

Pursuant to section 735(c)(1)(B) of the Act, we are instructing the U.S. Customs Service (Customs) to continue to suspend liquidation of all entries of cold-rolled steel from Australia that are entered, or withdrawn from warehouse, for consumption on or after February 9, 2002, which is 90 days prior to the date the Preliminary Determination was published in the Federal Register, because of our affirmative critical circumstances finding in accordance with section 735(a)(3) of the Act. Customs shall continue to require a cash deposit or the posting of a bond equal to the estimated amount by which the normal value exceeds the U.S. price as shown below. The suspension of liquidation instructions will remain in effect until further notice.

We determine that the following percentage margins exist for the period July 1, 2000 through June 30, 2001:

Manufacturer/exporter | Margin (percent)
BHP | 24.06
All Others | 24.06

International Trade Commission (ITC) Notification

In accordance with section 735(d) of the Act, we have notified the ITC of our determination. As our final determination is affirmative, the ITC will determine, within 45 days, whether these imports are causing material injury, or threat of material injury, to an industry in the United States. If the ITC determines that material injury, or threat of injury does not exist, the proceeding will be terminated and all securities posted will be refunded or cancelled. If the ITC determines that such injury does exist, the Department will issue an antidumping duty order directing Customs officials to assess antidumping duties on all imports of the subject merchandise entered, or withdrawn from warehouse, for consumption on or after the effective date of the suspension of liquidation.

Notification Regarding Administrative Protective Order (APO)

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: July 10, 2002.
Faryar Shirzad,
Assistant Secretary for Import Administration.

Appendix I—Scope of the AD/CVD Investigations on Certain Cold-Rolled Steel Products

For a complete discussion of the comments received on the Preliminary Scope Rulings, see the “Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea,” on file in the CRU. This memorandum can also be accessed directly on the Web at http://ia.ita.doc.gov/frn/summary/list.htm. The paper copy and electronic version are identical in content.

Scope of Investigation

For purposes of this investigation, the products covered are certain cold-rolled (cold-reduced) flat-rolled carbon-quality steel products, neither clad, plated, nor coated with metal, but whether or not annealed, painted, varnished, or coated with plastics or other non-metallic substances, both in coils, 0.5 inch wide or wider, (whether or not in successively superimposed layers and/or otherwise coiled, such as spirally oscillated coils), and also in straight lengths, which, if less than 4.75 mm in thickness having a width that is 0.5 inch or greater and that measures at least 10 times the thickness; or, if of a thickness of 4.75 mm or more, having a width exceeding 150 mm and measuring at least twice the thickness. The products described above may be rectangular, square, circular or other shape and include products of either rectangular or non-rectangular cross-section.

Specifically included in this scope are vacuum degassed, fully stabilized (commonly referred to as interstitial-free (IF)) steels, high strength low alloy (HSLA) steels, and motor lamination steels. IF steels are recognized as low carbon steels with micro-alloying levels of elements such as titanium and/or niobium added to stabilize carbon and nitrogen elements. HSLA steels are recognized as steels with micro-alloying levels of elements such as chromium, copper, niobium, titanium, vanadium, and molybdenum. Motor lamination steels contain micro-alloying levels of elements such as silicon and aluminum.

Steel products included in the scope of this investigation, regardless of definitions in the HTSUS, are products in which: (1) iron predominates, by weight, over each of the other contained elements; (2) the carbon content is 2 % or less, by weight, and; (3) none of the elements listed below exceeds the quantity, by weight, respectively indicated: 1.80 % of manganese, or 2.25 % of silicon, or 1.00 % of copper, or 0.50 % of aluminum, or 1.25 % of chromium, or 0.30 % of cobalt, or 0.40 % of lead, or 1.25 % of nickel, or 0.30 % of tungsten, or 0.10 % of molybdenum, or 0.10 % of niobium (also called columbium), or 0.15 % of vanadium, or 0.15 % of zirconium.

All products that meet the written physical description, and in which the chemistry quantities do not exceed any one of the noted element levels listed above, are within the scope of this investigation unless specifically excluded.

The following products, by way of example, are outside and/or specifically excluded from the scope of this investigation:

• SAE grades (formerly also called AISI grades) above 2300;

• Ball bearing steels, as defined in the HTSUS;

• Tool steels, as defined in the HTSUS;

• Silico-manganese steel, as defined in the HTSUS;

• Silicon-electrical steels, as defined in the HTSUS, that are grain-oriented;

• Silicon-electrical steels, as defined in the HTSUS, that are not grain-oriented and that have a silicon level exceeding 2.25 %;

• All products (proprietary or otherwise) based on an alloy ASTM specification (sample specifications: ASTM A506, A507);

• Non-rectangular shapes, not in coils, which are the result of having been processed by cutting or stamping and which have assumed the character of articles or products classified outside chapter 72 of the HTSUS;

• Silicon-electrical steels, as defined in the HTSUS, that are not grain-oriented and that have a silicon level less than 2.25 %, and (a) fully-processed, with a core loss of less than 0.14 watts/pound per mil (0.001 inch), or (b) semi-processed, with core loss of less than 0.085 watts/pound per mil (0.001 inch);

• Certain shadow mask steel, which is aluminum killed cold-rolled steel coil that is open coil annealed, has an ultra-flat, isotropic surface, and which meets the following characteristics:

Thickness: 0.001 to 0.010 inch

Width: 15 to 32 inches

Chemical Composition
Element | C
Weight % | <0.002%

• Certain flapper valve steel, which is hardened and tempered, surface polished, and which meets the following characteristics:

Thickness: ≤1.0mm

Width: L ≤152.4 mm

Chemical Composition
Element | C | Si | Mn | P | S
Weight % | 0.90-1.05 | 0.15-0.35 | 0.30-0.50 | ≤0.03 | ≤0.006

Mechanical Properites
Tensile Strength | ≥162 Kgf/mm²
Hardness | ≥ 475 Vickers hardness number

Physical Properties
Flatness | <0.2% of nominal strip width

Microstructure: Completely free from decarburization. Carbides are spheroidal and fine within 1% to 4% (area percentage) and are undissolved in the uniform tempered martensite.

Non-Metallic Inclusion
| Area percentage
Sulfide Inclusion | ≤0.04%
Oxide Inclusion | ≤0.05%

Compressive Stress: 10 to 40 Kgf/mm Surface Roughness

Surface Roughness
Thickness (mm) | Roughness (μm)
t ≤ 0.209 | Rz ≤ 0.5
0.209 < t ≤0.310 | Rz ≤ 0.6
0.310 < t ≤0.440 | Rz ≤ 0.7
0.440 < t ≤0.560 | Rz ≤ 0.8
0.560 < t | Rz ≤ 1.0

• Certain ultra thin gauge steel strip, which meets the following characteristics:

Thickness: ≤0.100 mm ± 7%

Width: 100 to 600 mm

Chemical Composition
Element | C | Mn | P | S | Al | Fe
Weight % | ≤0.07 | 0.2-0.5 | ≤0.05 | ≤0.05 | ≤0.07 | Balance

Mechanical Properties
Hardness | Full Hard (Hv 180 minimum)
Total Elongation | <3%
Tensile Strength | 600 to 850 N/mm

Physical Properties
Surface Finish | ≤0.3 micron
Camber (in 2.0 m) | <3.0 mm
Flatness (in 2.0 m) | ≤0.5 mm
Edge Burr | <0.01 mm greater than thickness
Coil Set (in 1.0 m) | <75.0 mm m

• Certain silicon steel, which meets the following characteristics:

Thickness: 0.024 inch ± 0.0015 inch

Width: 33 to 45.5 inches

Chemical Composition
Element | C | Mn | P | S | Si | Al
Min. Weight % |  |  |  |  |  |
Max. Weight % | 0.004 | 0.4 | 0.09 | 0.009 | 0.65 | 0.4

Mechanical Properties
Hardness | B 60-75 (AIM 65)

Physical Properties
Finish | Smooth (30-60 microinches)
Gamma Crown (in 5 inches) | 0.0005 inch, start measuring one-quarter inch from slit edge
Flatness | 20 I-UNIT max.
Coating | C3A-08A max. (A2 coating acceptable)
Camber (in any 10 feet) | 1/16 inch
Coil Size I.D. | 20 inches

Magnetic Properties
Core Loss (1.5T/60 Hz) NAAS | 3.8 Watts/Pound max.
Permeability (1.5T/60 Hz) NAAS | 1700 gauss/oersted typical
| 1500 minimum

• Certain aperture mask steel, which has an ultra-flat surface flatness and which meets the following characteristics:

Thickness: 0.025 to 0.245 mm

Width: 381-1000 mm

Chemical Composition
Element | C | N | A1
Weight % | <0.01 | 0.004 to 0.007 | ≤0.007

• Certain annealed and temper-rolled continuously cast steel, which meets the following characteristics:

Chemical Composition
Element | C | Mn | P | S | Si | Al | As | Cu | B | N
Min. Weight % | 0.02 | 0.20 |  |  | 0.03 |  |  |  |  | 0.003
Max. Weight % | 0.06 | 0.40 | 0.02 | 0.023 (Aiming, 0.018 Max.) |  | 0.08 (Aiming 0.05) | 0.02 | 0.08 |  | 0.008 (Aiming 0.005)

Non-metallic Inclusions: Examination with the S.E.M. shall not reveal individual oxides <1 micron (0.000039 inch) and inclusion groups or clusters shall not exceed 5 microns (0.000197 inch) in length.

Surface Treatment as follows: The surface finish shall be free of defects (digs, scratches, pits, gouges, slivers, etc.) and suitable for nickel plating.

Surface Finish
| Roughness, RA microinches (micrometers): Aim | Roughness, RA microinches (micrometers): Min. | Roughness, RA microinches (micrometers): Max.
Extra Bright | 5(0.1) | 0(0) | 7(0.2)

• Certain annealed and temper-rolled cold-rolled continuously cast steel, in coils, with a certificate of analysis per Cable System International (“CSI”) Specification 96012, with the following characteristics:

Element | C | Mn | P | S
Max. Weight D0.13 | 0.13 | 0.60 | 0.02 | 0.05

Physical and Mechanical Properties
Base Weight | 55 pounds
Theoretical Thickness | 0.0061 inch (+/−10 % of theoretical thickness)
Width | 787 mm to 813 mm
Tensile Strength | 45,000-55,000 psi
Elongation | minimum of 15 % in 2 inches

• Concast cold-rolled drawing quality sheet steel, ASTM a-620-97, Type B, or single reduced black plate, ASTM A-625-92, Type D, T-1, ASTM A-625-76 and ASTM A-366-96, T1-T2-T3 Commercial bright/luster 7a both sides, RMS 12 max. Thickness range of 0.0088 to 0.038 inches, width of 23.0 inches to 36.875 inches.

• Certain single reduced black plate, meeting ASTM A-625-98 specifications, 53 pound base weight (0.0058 inch thick) with a Temper classification of T-2 (49-57 hardness using the Rockwell 30 T scale).

• Certain single reduced black plate, meeting ASTM A-625-76 specifications, 55 pound base weight, MR type matte finish, TH basic tolerance as per A263 trimmed.

• Certain single reduced black plate, meeting ASTM A-625-98 specifications, 65 pound base weight (0.0072 inch thick) with a Temper classification of T-3 (53-61 hardness using the Rockwell 30 T scale).

• Certain cold-rolled black plate bare steel strip, meeting ASTM A-625 specifications, which meet the following characteristics:

Chemical Composition
Element | C | Mn | P S
Max. Weight % | 0.13 | 0.60 | 0.02 | 0.05

Physical and Mechanical Properties
Thickness | 0.0058 inch ± 0.0003 inch
Hardness | T2/HR 30T 50—60 aiming
Elongation | ≥ 15 %
Tensile Strength | 51,000.0 psi ± 4.0 aiming

• Certain cold-rolled black plate bare steel strip, in coils, meeting ASTM A-623, Table II, Type MR specifications, which meet the following characteristics:

Chemical Composition
Element | C | Mn | P | S
Max. Weight % | 0.13 | 0.60 | 0.04 | 0.05

Physical and Mechanical Properties
Thickness | 0.0060 inch (±0.0005 inch)
Width | 10 inches (+¼ to ⅜ inch/-0)
Tensile Strength | 55,000 psi max.
Elongation | Minimum of 15% in 2 inches

• Certain “blued steel” coil (also known as “steamed blue steel” or “blue oxide”), with a thickness of 0.30 mm to 0.42 mm and width of 609 mm to 1219 mm, in coil form;

• Certain cold-rolled steel sheet, coated with porcelain enameling prior to importation, which meets the following characteristics:

Thickness (nominal): ≤ 0.019 inch

Width: 35 to 60 inches

Chemical Composition
Element | C | O | B
Max. Weight % | 0.004 |  |
Min. Weight % |  | 0.010 | 0.012

• Certain cold-rolled steel, which meets the following characteristics

Width: > 66 inches

Chemical Composition
Element | C | Mn | P | Si
Max. Weight % | 0.07 | 0.67 | 0.14 | 0.03

Physical and Mechanical Properties
Thickness Range (mm) | 0.800—2.000
Min. Yield Point (MPa) | 265
Max. Yield Point (MPa) | 365
Min. Tensile Strength (MPa) | 440
Min. Elongation % | 26

• Certain band saw steel, which meets the following characteristics:

Thickness: ≤ 1.31 mm

Width: ≤ 80 mm

Chemical Composition
Element | C | Si | Mn | P | S | Cr | Ni
Weight % | 1.2 to 1.3 | 0.15 to 0.35 | 0.20 to 0.35 | ≤0.03 | ≤0.007 | 0.3 to 0.5 | ≤0.25

Other properties:

Carbide: Fully spheroidized having > 80 % of carbides, which are ≤ 0.003 mm and uniformly dispersed

Surface finish: Bright finish free from pits, scratches, rust, cracks, or seams

Smooth edges.

Edge camber (in each 300 mm of length): ≤ 7 mm arc height

Cross bow (per inch of width): 0.015 mm max.

• Certain transformation-induced plasticity (TRIP) steel, which meets the following characteristics:

Variety 1

Chemical Composition
Element | C | Si | Mn
Min. Weight % | 0.09 | 1.0 | 0.90
Max. Weight % | 0.13 | 2.1 | 1.7

Physical and Mechanical Properties
Thicknes range (mm) | 1.000—2.300 (inclusive)
Min. Yied Point (MPa) | 320
Max. Yied Point (MPa) | 480
Min. Tensile Strength (MPa) | 590
Min. Elongation % | 24 (if 1.000—1.199 thickness range) 25 (if 1.200—1.599 thickness range) 26 (if 1.600—1.999 thickness range) 27 (if 2.000—2.300 thickness range)

Variety 2

Chemical Composition
Element | C | Si | Mn
Min. Weight % | 0.12 | 1.5 | 1.1
Max. Weitht % | 0.16 | 2.1 | 1.9

Physical and Mechanical Properties
Thickness Range (mm) | 1.000-2.300 (inclusive)
Min. Yied Point (MPa) | 340
Max. Yied Point (MPa) | 520
Min. Tensile Strength (MPa) | 690
Min. Elongation % | 21 (if 1.000-1.199 thickness range) 22 (if 1.200-1.599 thickness range) 23 (if 1.600-1.999 thickness range) 24 (if 2.000-2.300 thickness range)

Variety 3

Chemical Composition
Element % | C | Si | Mn
Min. Weight % | 0.13 | 1.3 | 1.5
Max. Weitht % | 0.21 | 2.0 | 2.0

Physical and Mechanical Properties
Thickness Range (mm) | 1.200-2.300 9inclusive)
Min. Yield Point (MPa) | 370
Max Yield Point (MPa) | 570
Min. Tensile Strength (MPa) | 780
Min. Elongation % | 18 (if 1.200-1.599 thickness range) 19 (if 1.600-1.999 thickness range) 20 (if 2.000-2.300 thickness range)

• Certain cold-rolled steel, which meets the following characteristics:

Variety 1

Chemical Composition
Element | C | Mn | P | Cu
Min. Weight % |  |  |  | 0.15
Max. Weight % | 0.10 | 0.40 | 0.10 | 0.35

Physical and Mechanical Properties
Thickness Range (mm) | 0.600-0.800
Min. Yield Point (MPa) | 185
Max. Yield Point (MPa) | 285
Min. Tensile Strength (MPa) | 340
Min. Elongation % | 31 (ASTM standard 31% = JIS standard 35%)

Variety 2

Chemical Composition
Element | C | Mn | P | Cu
Min. Weight % |  |  |  | 0.15
Max. Weight % | 0.05 | 0.40 | 0.08 | 0.35

Physical and Mechanical Properties
Thickness Range (mm) | 0.800-1.000
Min. Yield Point (MPa) | 145
Max. Yield Point (MPa) | 245
Min. Tensile Strength (MPa) | 295
Min. Elongation % | 31 (ASTM standard 31% = JIS standard 35%)

Variety 3

Chemical Composition
Element | C | Si | Mn | P | S | Cu | Ni | Al | Nb, V, Ti, B | Mo
Max. Weight % | 0.01 | 0.05 | 0.40 | 0.10 | 0.023 | 0.15- 0.35 | 0.35 | 0.10 | 0.10 | 0.30

Physical and Mechanical Properties
Thickness (mm) | 0.7
Elongation % | ≥35

• Porcelain enameling sheet, drawing quality, in coils, 0.014 inch in thickness, + 0.002, −0.000, meeting ASTM A-424-96 Type 1 specifications, and suitable for two coats.

• Cold-rolled steel strip to specification SAE 4130, with the following characteristics:

HTSUS item number 7226.92.80.50

Width up to 24 inches

Gauge of “0.050—0.014 inches,” and gauge tolerance of +/−0.0018 inches

• Texture-rolled steel strip (SORBITEX), with the following characteristics:

Thickness: 0.0039 to 0.0600 inches

Width: 0.1180 to 7.8700 inches (3-200 mm)

Chemical Composition
C | Si | Mn | P | S | Al | Cr | Ni | Cu
0.76-0.96% | 0.10-0.35% | 0.30-0.60% | < .025% | < .020% | < .060% | < .30% | < .20% | < .20%

Tensile strength ranges:245,000 to 365,000 psi.

HTSUS 7211.29.20.30 and HTSUS 7211.29.45.00

• Reed steel, with the following characteristics:

Grades Eberle 18, 18C (SAE 1095 modified alloyed steel)

HTSUS 7211.90.00

Physical Characteristics
Thickness | 0.0008 to 0.04 inches (0.0203 to 1.015 mm)
Width | 0.276 to 0.472 inches (7 mm to 12.0 mm), with width tolerances of +/−0.04 to 0.06 mm
Tensile strength | 1599 Mpa to 2199 Mpa

Chemical Composition
C | Si | Mn | P | S | Cr
0.95-1.05% | 0.15-0.30 | .025-0.50% | less than 0.015% | less than 0.012% | less than 0.40%

Surface: Rmax 1.5 to 3.0 micrometers

Straightness: Max. deviation of 0.56mm/m

Flatness: Deviation of 0.1 to 0.3% of the width

• Feeler gauge steel, with the following characteristics:

Polished surface and deburred or rounded edges

Grades Eberle 18, 18C (SAE 1095 modified alloyed steel)

HTSUS 7211.90.00

Physical and Mechanical Properties
Max. width | 0.4975 inches
Thickness Range | 0.001-0.045 inches
Thickness tolerances | T2-T4 international standard
Tensile strength UTS | 246-304 ksi

• Wood Band Saw Steel with Nickel Content Exceeding 1.25% by Weight, with the following characteristics:

Both variety 1 and variety 2 are classified under HTSUS item number 7226.99.00.00

Variety #1

Nickel-alloyed Band Saw Steel, which meets the following characteristics:

Thickness: >1.1 mm, ≤3.00 mm

Width: < 400 mm

Chemical Composition
Element | C | Si | Mn | P | S | Cr | Ni | Cu | Al
Weight % | 0.70-0.80 | 0.20-0.35 | 0.30-0.45 | max. 0.020 | max. 0.006 | 0.05-0.20 | 1.90-2.10 | max. 0.15 | 0.02-0.04

Microstructure: Tempered Martensite with Bainite, no surface decarburization.

Mechanical Properties:

Hardness: 446 +12/−23 HV respectively 45 +1/−2 HRC

Surface Finish: bright, polished

Edges: treated edges

Cross Bow: max. 0.1 mm per mm width

Variety #2

UHB15N20 band saw steel according to the alloy composition:

Chemical Composition
Element | C | Si | Mn | P | S | Cr | Ni
Weight % | 0.70-0.80 | 0.20-0.35 | 0.30-0.45 | max. 0.020 | max. 0.016 |  | 1.90-2.10

Typical material properties: Hardened and tempered

Tensile Strength: 1450 N/mm ² for thickness < 2 mm and 1370 N/mm ² for thickness > 2 mm

Width tolerance: B1 = +/−0.35 mm

Thickness tolerance: T1(+/−0.039 mm)

Flatness: P4 (max. deviation 0.1% of width of strip)

Straightness: (+/−0.25 mm/1000 mm)

Dimensions:

Widths: 6.3-412.8 mm

Thickness: 0.40 to 3.05 mm

• 2% nickel T5 tolerances and ra less than 8 my, with the following characteristics:

Thickness: 0.5-3.5 mm

Width: 50-650 mm

Chemical Composition
Element | C | Si | Mn | P | S | Al | Cr | Ni
Weight % in | 0.70-0.08 | 0.15-0.35 | 0.30-0.05 | max. 0.020 | max. 0.010 | max. −0.020 | 0.05-0.030 | 1.90-0.020

High precision T5 tolerance

Roughness: Ra (RMS) max. 8 inches

The product is classified under HTSUS item number 7226.92.50.00

• Ski-edge profile steel, with the following characteristics:

For both Grade SAE 1070 and German Grade SAE X35CrMo17:

HTSUS item numbers 7228.60.80 and 7216.69.00

Hardened and tempered, HRC 44-52

Surface: bright finished, sandblasted or primer coated

Stamped condition

Dimensions
| Width mm | Width mm | Thickness mm | Thickness mm
Ski 39 | 6 | 1.90 | 2 | 0.50
Ski 40 | 6 | 1.70 | 2 | 0.50
Ski 129 | 7.70 | 2.00 | 2.20 | 0.60

Chemical Composition for Grade SAE 1070
Element | C | Si | Mn | P | S
% in Weight | 0.65-0.75 | max. 0.40 | max. 0.60-0.90 | max. 0.04 | max. 0.05

Chemical Composition for German Grade SAE ×35CrMo17
Element | C | Si | Mn | P | S | CR | Mo | Ni
% in Weight | 0.33-0.45 | max. 1.0 | max. 1.50 | max. 0.04 | max. 0.025 | 15.5-17.5 | 0.8-1.3 | max. 1.0

Note that this is an angle shape or section steel that is not covered by this scope.

• Flat wire, with the following characteristics:

SAE 1074 alloyed, annealed, skin passed

Hardened and tempered

Formed edges

Widths of less than 12.7 mm

Thickness from 0.50-2.40 mm

• Shadow/aperture mask steel, which is Aluminum killed cold-rolled steel coil that is open coil annealed, has an ultra-flat, isotropic surface, and meets the following characteristics:

Thickness: 0.001 to 0.010 inch

Width: 15 to 35 inches

Increased tensile strength of 800 to 1,200 N/mm²

Chemical Composition
Element | C | N | Mn
Weight % | < 0.01% | 0.01-0.017% | 0.06-0.85%

HTSUS item numbers 7209.18.25.10 or 7211.23.60.75, depending on the width of the material.

• Grade 13C cement kiln steel, with the following specifications:

Chemical Composition
Element | C | Si | Mn | P | S
Weight % | 0.65 | 0.25 | 0.65 | max. 0.020 | max. 0.010

Microstructure: Fine grained and homogenous. Matrix of tempered martensite with a small amount of undissolved carbides

Decarburization: No free ferrit is allowed; Total decarburization should not exceed 4% per plane

Mechanical Properties: Tensile strength: 1200-1700 N/mm², (Standard 1280 +/^80 N/mm²)

Surface Finish: Gray hardened condition. Ra/CLA—max. 0.25 m. Cut off 0.25 mm Rmax—max. 2.5 m

Edge Condition: Slit edges free from cracks and damages

Dimensions:

Thickness: 0.4-1.40 mm, Tolerance: T1

Width: 250-1200 mm, Tolerance: B1

Flatness: Unflatness Across Strip: max. 0.4% of the nominal strip width

Coil Size: Inside Diameter: 600 mm

Coil Weight: max. 6.5 kg/mm strip width

• Certain valve steel (type 2), with the following specifications: Hardened tempered high-carbon strip, characterized by high fatigues strength and wear resistance, hardness combined with ductility, surface and end-finishes, and good blanking and forming properties.

HTSUS item number: 7211.90.00.00

Typical size ranges:

Thickness: 0.15-1.0 mm

Width: 10.0-140 mm

Chemical Composition
Element | C | Si | Mn | P | S | Ni | Cr
Weight % | 0.7-0.8 | 0.2-0.35 | 0.3-0.45 | Max. 0.020 | Max. 0.016 | 1.9-2.1 |

The merchandise subject to this investigation is typically classified in the HTSUS at item numbers: 7209.15.0000, 7209.16.0030, 7209.16.0060, 7209.16.0090, 7209.17.0030, 7209.17.0060, 7209.17.0090, 7209.18.1530, 7209.18.1560, 7209.18.2550, 7209.18.6000. 7209.25.0000, 7209.26.0000, 7209.27.0000, 7209.28.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.90.0000, 7212.40.1000, 7212.40.5000, 7212.50.0000, 7225.19.0000, 7225.50.6000, 7225.50.7000, 7225.50.8010, 7225.50.8085, 7225.99.0090, 7226.19.1000, 7226.19.9000, 7226.92.5000, 7226.92.7050, 7226.92.8050, and 7226.99.0000.

Although the HTSUS item numbers are provided for convenience and Customs purposes, the written description of the merchandise under investigation is dispositive.

[FR Doc. 02-18293 Filed 7-18-02; 8:45 am]

BILLING CODE 3510-DS-P